DEPARTMENT OF THE INTERIOR

Fish and Wildlife Service

[FWS-R8-R-2011-N042; 1261-0000-80230-W2]

Llano Seco Riparian Sanctuary Unit Restoration and Pumping Plant/Fish Screen Facility Protection Project, California; Intent To Prepare an Environmental Impact Statement

AGENCY: Fish and Wildlife Service, Interior.

ACTION: Notice of intent; request for public comment.

SUMMARY: We, the U.S. Fish and Wildlife Service (Service), in coordination with the California Department of Fish and Game (CDFG), are preparing a joint environmental impact statement/environmental impact report (EIS/EIR) for the proposed Llano Seco Riparian Sanctuary Unit Restoration and Pumping Plant/Fish Screen Facility Protection Project, in Glenn and Butte Counties, California. The proposed project includes riparian restoration and protection of the Princeton-Cordora-Glenn and Provident Irrigation Districts (PCGID-PID) pumping plant and fish screen facility. This notice advises the public that we intend to gather information necessary to prepare an EIS pursuant to the National Environmental Policy Act (NEPA). We encourage the public and other agencies to participate in the NEPA scoping process by sending written suggestions and information on the issues and concerns that should be addressed in the draft EIS/EIR, including the range of alternatives, appropriate mitigation measures, and the nature and extent of potential environmental impacts.

DATES: To ensure that we have adequate time to evaluate and incorporate suggestions and other input, we must receive your comments on or before May 27, 2011. A public scoping meeting will be held on May 10, 2011 from 4 p.m. to 6:30 p.m., at the Ord Bend Community Hall, 3241 Highway 45, Ord Bend, California 95943-9654.

ADDRESSES: Send written comments or requests to be added to our project mailing list to: Daniel W. Frisk, Project Leader, Sacramento National Wildlife Refuge Complex, U.S. Fish and Wildlife Service, 752 County Road 99W, Willows, CA 95988. Alternatively, you may send written comments or requests by fax to (530) 934-7814, or by e-mail to dan_frisk@fws.gov. Please indicate that your comments refer to the Riparian Sanctuary Restoration and Pumping Plant/Fish Screen Facility Protection Project.

FOR FURTHER INFORMATION CONTACT: Kelly Moroney, Refuge Manager, (530) 934-2801.

SUPPLEMENTARY INFORMATION:

Background

The Llano Seco Riparian Sanctuary Unit was acquired by the Service in 1991 and added to the Sacramento River National Wildlife Refuge. The Service acquired the Llano Seco Riparian Sanctuary Unit as part of the Joint Management Agreement between Parrot Investment Co., The Nature Conservancy, California Department of Fish and Game, and the Service to cooperatively manage lands on the Llano Seco Ranch. The Llano Seco Riparian Sanctuary Unit is one piece of the larger Llano Seco Ranch, and was cleared of riparian vegetation for agricultural production by the previous landowner during the 1970s. Although the property has been out of agricultural production for close to 15 years, the habitat remains dominated by nonnative and invasive noxious weeds. Currently, just over 200 acres is farmed to dryland row crops to help control nonnative weeds.

Prior to acquisition by the Service, rock revetment was placed on the north end of the Llano Seco Riparian Sanctuary Unit by the Department of Water Resources in 1985 and 1986. The rock was placed in order to lock the Sacramento River in place ensuring that flood flows would continue to be diverted from the Sacramento River through the Goose Lake overflow structure and into the Butte Basin. When the Service acquired the ranch property in 1991, we did so with the understanding that our management activities would not impact the Goose Lake overflow structure that diverts flood water into the Butte Basin.

Since the placement of rock revetment in 1986, the natural riverbank that is south of the revetment has eroded approximately 600 feet. The erosion on refuge property is directly across from the PCGID-PID pumping plant and fish screening facility. In 1999, the PCGID-PID consolidated three pumping plants into one new facility equipped with state-of-the-art fish screens. The fish-screening efficiency of the new PCGID-PID pumping plant is now endangered by the bank erosion on the refuge property and the migration of the Sacramento River. Although the rock revetment on the north edge of refuge property is decades old and eroding, it plays a key role in protecting the PCGID-PID pumping plant. As the bank erodes, the angle of flow and velocity of the water passing the screens will change, trapping fish against the screen rather than sweeping them past. Without some type of protection, it is likely the bank will continue to erode and the pumping plant facility will fail to meet guidelines for operation of the pumping-plant fish screens that were published by the National Marine Fisheries Service of National Oceanic and Atmospheric Administration (Department of Commerce).

To address these issues we are proposing the restoration of approximately 500 acres of the Llano Seco Riparian Sanctuary Unit to improve habitat for wildlife with an emphasis on endangered and threatened species and the protection of the PCGID-PID pumping plant and fish screen facility.

Previous Planning Studies

In 2001, River Partners submitted a planning proposal to the CALFED Bay-Delta Program for grant funding to investigate the following problems:

• River meander may threaten the operation of the PCGID-PID fish screen and pumping plant located across the river from the Llano Seco Riparian Sanctuary (part of the Sacramento River National Wildlife Refuge).

• Current site conditions on much of the 950-acre Llano Seco Riparian Sanctuary have contributed little to endangered species recovery and overall riparian health.

• Few restoration projects integrate an interdisciplinary scientific approach into project implementation, limiting the opportunities to learn restoration.

In 2004, following approval of CALFED Bay-Delta Program grant funding, River Partners and an interdisciplinary team began studies to examine measures to protect the PCGID-PID pumping plant and fish screen facility and develop restoration options for the Llano Seco Riparian Sanctuary Unit.

River Partners initiated a cooperative process with the Service and the PCGID-PID to address complex and potentially controversial issues associated with restoration activities and pumping plant and fish screen facility protection measures. MBK Engineers completed the Llano Seco Unit Sacramento River Mile 178 Pumping Plant Protection Feasibility Study in August 2005 to identify alternatives that meet the PCGID-PID's pumping plant and fish screen protection objectives.

In 2005, River Partners prepared a Riparian Feasibility Study for the Llano Seco Riparian Sanctuary Unit to investigate the feasibility of restoration and other management options for this area. Approximately 500 acres of the site was found to be dominated by nonnative plants, with poor wildlife habitat values, and suitable for restoration.

In 2010, Ayres Associates refined the alternatives identified in the MBK study, identifying the most feasible alternatives that should be considered for protection of the PCGID-PID facility.

Summary of Alternatives

No Action Alternative

Under the No Action alternative, only the ongoing removal and management of invasive plant species would occur at the Riparian Sanctuary. No active restoration of native plants would occur. Maintenance activities for the PCGID-PID pumping plant and fish screens would continue, but no new actions would be taken to prevent river meander.

Action Alternatives

A full range of reasonable alternatives will be developed based on the River Partners 2005 feasibility study, the 2010 Ayres feasibility study, and public input received during this scoping period. The 2005 River Partners study identified restoration measures consisting of full plantings or site-specific plantings of the Llano Seco Riparian Sanctuary Unit. The 2010 Ayres feasibility study identified the following measures to protect the PCGID-PID pumping plant and fish screen facility: Construction of spur dikes, traditional riprap revetment, traditional riprap with a low berm, and traditional riprap with removal of existing revetment. A combination of these measures will be used to develop a range of alternatives.

Public Comment

We are furnishing this notice in accordance with section 1501.7 of the NEPA implementing regulations to obtain suggestions and information from other agencies and the public on the scope of issues to be addressed in the EIS/EIR. We invite written comments from interested parties to ensure identification of the full range of issues.

Written comments we receive become part of the public record associated with this action. Before including your address, phone number, e-mail address, or other personal identifying information in your comment, you should be aware that the entire comment—including your personal identifying information—may be made publicly available at any time. While you can ask us in your comment to withhold your personal identifying information from public review, we cannot guarantee that we will be able to do so.

Public Scoping Meeting

In addition to providing written comments, the public is encouraged to attend a public scoping meeting to provide us with suggestions and information on the scope of issues and alternatives to consider when drafting the EIS/EIR. A public scoping meeting will be held on the date shown in the DATES section.

Persons needing reasonable accommodations in order to attend and participate in the public meeting should contact us at the address listed in the ADDRESSES section no later than 1 week before the public meeting. Information regarding this proposed action is available in alternative formats upon request. We will accept both oral and written comments at the scoping meeting.

NEPA Compliance

Information gathered through this scoping process will assist us in developing a range of alternatives to address restoration of the Llano Seco Riparian Sanctuary Unit and protection of the PCGID-PID pumping plant and fish screen facility. A detailed description of the proposed action and alternatives will be included in the EIS/EIR. The EIS/EIR will identify the direct, indirect, and cumulative impacts of the alternatives on biological resources, cultural resources, land use, air quality, water quality, water resources, and other environmental resources. It will also identify appropriate mitigation measures for adverse environmental effects.

We will conduct environmental review in accordance with the requirements of NEPA, as amended (42 U.S.C. 4321 et seq.), its implementing regulations (40 CFR parts 1500-1508), other applicable regulations, and our procedures for compliance with those regulations. The environmental document will be prepared to meet both the requirements of NEPA and the California Environmental Quality Act (CEQA). The CDFG is the CEQA lead agency. We anticipate that a draft EIS/EIR will be available for public review in the fall of 2011.

Dated: April 6, 2011.
Alexandra Pitts,
Regional Director, Pacific Southwest Region.

[FR Doc. 2011-8664 Filed 4-11-11; 8:45 am]

BILLING CODE 4310-55-P